DEPARTMENT OF LABOR

Office of the Secretary

Postponement of Meeting of the Labor Advisory Committee for Trade Negotiation and Trade Policy

AGENCY: Bureau of International Labor Affairs, U.S. Department of Labor and Office of the United States Trade Representative, Labor Advisory Committee for Trade Negotiations and Trade Policy.

ACTION: Notice of postponement of meeting.

SUMMARY: Notice is hereby given that a meeting of the Labor Advisory Committee for Trade Negotiation and Trade Policy has been postponed until further notice. This meeting, which was closed to the public, was scheduled for December 15, 2017, from 2 p.m. to 4 p.m., at the U.S. Department of Labor, Secretary's Conference Room, 200 Constitution Ave. NW, Washington, DC.

DATES: The meeting scheduled for December 15, 2017, is cancelled.

FOR FURTHER INFORMATION CONTACT: Anne M. Zollner, Chief, Trade Policy and Negotiations Division; Phone: (202) 693-4890.

SUPPLEMENTARY INFORMATION: The original Federal Register notice announcing this meeting was published on November 17, 2017, at 82 FR 25011.

Signed at Washington, DC, the 13th day of December 2017.
Martha E. Newton,
Deputy Undersecretary, Bureau of International Labor Affairs.

[FR Doc. 2017-27182 Filed 12-13-17; 4:15 pm]

BILLING CODE 4510-28-P